DEPARTMENT OF HOMELAND SECURITY

Federal Emergency Management Agency

44 CFR Part 65

[Docket ID FEMA-2008-0020; Internal Agency Docket No. FEMA-B-1052]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Calhoun | City of Anniston (09-04-1158P) | April 6, 2009, April 13, 2009, The Anniston Star | The Honorable Gene D. Robinson, Mayor, City of Anniston, P.O. Box 2168, Anniston, AL 36202 | August 11, 2009 | 010020
Tuscaloosa | City of Tuscaloosa (08-04-6875P) | April 13, 2009, April 20, 2009, The Tuscaloosa News | The Honorable Walter Maddox, Mayor, City of Tuscaloosa, P.O. Box 2089, Tuscaloosa, AL 35403 | August 18, 2009 | 010203
Tuscaloosa | Unincorporated areas of Tuscaloosa County (08-04-6875P) | April 13, 2009, April 20, 2009, The Tuscaloosa News | The Honorable W. Hardy McCollum, Tuscaloosa County Probate Judge, 714 Greensborough Avenue, Tuscaloosa, AL 35401 | August 18, 2009 | 010201
Arizona:
Maricopa | Town of Cave Creek (09-09-0129P) | February 11, 2009, February 18, 2009, Sonoran News | The Honorable Vincent Francia, Mayor, Town of Cave Creek, 37622 North Cave Creek Road, Cave Creek, AZ 85331 | June 18, 2009 | 040129
Maricopa | Town of Cave Creek (09-09-0431P) | April 8, 2009, April 15, 2009, Sonoran News | The Honorable Vincent Francia, Mayor, Town of Cave Creek, 37622 North Cave Creek Road, Cave Creek, AZ 85331 | July 14, 2009 | 040129
Maricopa | Town of Cave Creek (09-09-0432P) | April 8, 2009, April 15, 2009, Sonoran News | The Honorable Vincent Francia, Mayor, Town of Cave Creek, 37622 North Cave Creek Road, Cave Creek, AZ 85331 | August 13, 2009 | 040129
Arkansas: Benton | City of Rogers (08-06-1043P) | March 31, 2009, April 7, 2009, The Morning News | The Honorable Steve Womack, Mayor, City of Rogers, 301 West Chestnut Street, Rogers, AR 72756 | August 5, 2009 | 050013
California:
Orange | City of Huntington Beach (08-09-1428P) | April 9, 2009, April 16, 2009, Huntington Beach Independent | The Honorable Keith Bohr, Mayor, City of Huntington Beach, 2000 Main Street, Huntington Beach, CA 92648 | March 30, 2009 | 065034
San Diego | City of Escondido (08-09-1101P) | April 3, 2009, April 10, 2009, North County Times | The Honorable Ron Roberts, Chairman, San Diego County Board of Supervisors, County of San Diego Administration Center, 1600 Pacific Highway, Room 335, San Diego, CA 92101 | August 10, 2009 | 060290
San Diego | City of San Diego (09-09-0601P) | April 9, 2009, April 16, 2009, San Diego Transcript | The Honorable Jerry Sanders, Mayor, City of San Diego, 202 C Street, 11th Floor, San Diego, CA 92101 | August 14, 2009 | 060295
San Diego | Unincorporated areas of San Diego County, (09-09-0601P) | April 9, 2009, April 16, 2009, San Diego Transcript | The Honorable Dianne Jacob, Chairwoman, San Diego County Board of Supervisors, 1600 Pacific Highway, Room 335, San Diego, CA 92101 | August 14, 2009 | 060284
Shasta | City of Redding (08-09-0964P) | March 9, 2009, March 16, 2009, Record Searchlight | The Honorable Rick Bosetti, Mayor, City of Redding, P.O. Box 496071, Redding, CA 96001 | March 30, 2009 | 060360
Colorado:
Weld | Town of Severance (08-08-0702X) | February 20, 2009, February 27, 2009, Greeley Tribune | The Honorable Pierre De Milt, Mayor, Town of Severance, 231 West Fourth Avenue, Severance, CO 80546 | June 29, 2009 | 080317
Weld | Unincorporated areas of Weld County (08-08-0702X) | February 20, 2009, February 27, 2009, Greeley Tribune | The Honorable David E. Long, Chairman, Weld County Board of Commissioners, P.O. Box 758, Greeley, CO 80632 | June 29, 2009 | 080266
Florida:
Lee | Unincorporated areas of Lee County (09-04-1718P) | April 1, 2009, April 8, 2009, Fort Myers News Press | The Honorable Ray Judah, Chairman, Lee County Board of Commissioners, P.O. Box 398, Fort Myers, FL 33902 | March 19, 2009 | 125124
Sumter | City of Wildwood (08-04-1977P) | April 9, 2009, April 16, 2009, Sumter County Times | The Honorable Ed Wolf, Mayor, City of Wildwood, 100 North Main Street, Wildwood, FL 34785 | March 30, 2009 | 120299
Georgia: Walton | Unincorporated areas of Walton County (08-04-1976P) | April 9, 2008, April 16, 2008, Walton Tribune | The Honorable Kevin Little, Chairman, Walton County Board of Commissioners, 1269 Good Hope Road, Monroe, GA 30655 | August 15, 2008 | 130185
Hawaii: Hawaii | Unincorporated areas of Hawaii County (08-09-0823P) | April 6, 2009, April 13, 2009, Hawaii Tribune-Herald | The Honorable William Kenoi, Mayor, Hawaii County, 25 Aupuni Street, Hilo, HI 96720 | August 11, 2009 | 155166
Illinois: DuPage | Unincorporated areas of DuPage County (09-05-0307P) | April 1, 2009, April 8, 2009, Daily Herald | The Honorable Robert J. Schillerstorm, Chairman, DuPage County Board, 421 North County Farm Road, Wheaton, IL 60187 | March 18, 2009 | 170197
Louisiana: Catahoula | Unincorporated areas of Catahoula Parish (08-06-1686P) | September 10, 2008, September 17, 2008, Catahoula News Booster | The Honorable Jackie Paulk, President, Catahoula Parish, P.O. Box 258, Harrisonburg, LA 71340 | August 27, 2008 | 220047
Maryland: Allegany | Unincorporated areas of Allegany County (08-03-1580P) | January 9, 2009, January 16, 2009, Cumberland Times News | The Honorable James J. Stakem, President, Allegany County Board of Commissioners, 701 Kelly Road, Fourth Floor, Cumberland, MD 21502 | January 30, 2009 | 240001
Mississippi:
Rankin | City of Brandon (08-04-5371P) | April 8, 2009, April 15, 2009, Rankin County News | The Honorable Carlo Martella, Mayor, City of Brandon, P.O. Box 1539, Brandon, MS 39043 | August 13, 2009 | 280143
Rankin | Unincorporated areas of Rankin County (08-04-5371P) | April 8, 2009, April 15, 2009, Rankin County News | The Honorable Richard Wilson, Prosecutor, Rankin County, 211 East Government Street, Brandon, MS 39042 | August 13, 2009 | 280142
Nebraska: Sarpy | City of Papillion (08-07-1022P) | April 2, 2009, April 9, 2009, Papillion Times | The Honorable James E. Blinn, Mayor, City of Papillion, 122 East 3rd St., Papillion, NE 68046 | August 7, 2009 | 315275
Nevada: Douglas | Unincorporated areas of Douglas County (09-09-0026P) | April 10, 2009, April 17, 2009, The Record-Courier | Nancy McDermid, Chair, Douglas County Board of Commissioners, P.O. Box 218, Minden, NV 89423 | August 17, 2009 | 320008
Pennsylvania:
Chester | Township of West Whiteland (09-03-0246P) | April 8, 2009, April 15, 2009, Daily Local News | The Honorable Diane Snyder, Chairman, West Whiteland Board of Supervisors, 222 North Pottstown Pike, Exton, PA 19341 | April 27, 2009 | 420295
Greene | Township of Franklin (09-03-0260P) | April 10, 2009, April 17, 2009, Observer Reporter | The Honorable T. Reed Kiger, Chairman, Township of Franklin, 568 Rolling Meadows Road, Waynesburg, PA 15370 | August 17, 2009 | 422595
South Carolina:
Charleston | City of Charleston (09-04-1604P) | April 9, 2009, April 16, 2009, The Post and Courier | The Honorable Joseph P. Riley, Jr., Mayor, City of Charleston, P.O. Box 652, Charleston, SC 29402 | August 14, 2009 | 455412
Charleston | City of Charleston (09-04-1605P) | April 9, 2009, April 16, 2009, The Post and Courier | The Honorable Joseph P. Riley, Jr., Mayor, City of Charleston, P.O. Box 652, Charleston, SC 29402 | August 14, 2009 | 455412
Tennessee:
Wilson | City of Lebanon (08-04-4560P) | October 15, 2008, October 22, 2008, The Wilson Post | The Honorable Donald W. Fox, Mayor, City of Lebanon, 200 North Castle Heights Avenue, Suite 100, Lebanon, TN 37087 | February 19, 2009 | 470208
Wilson | City of Mount Juliet (08-04-1366P) | April 11, 2008, April 18, 2008, The Wilson Post | The Honorable Linda Elam, Mayor, City of Mount Juliet, 2425 North Mt. Juliet Road, Mt. Juliet, TN 37122 | April 9, 2008 | 470290
Wilson | Unincorporated areas of Wilson County (09-04-0257P) | April 10, 2009, April 17, 2009, The Wilson Post | The Honorable Robert Dedman, County Mayor, Wilson County, 228 East Main Street, Lebanon, TN 37087 | August 17, 2009 | 470207
Texas:
Bell | City of Temple (08-06-1223P) | March 9, 2009, March 16, 2009, Temple Daily Telegram | The Honorable Bill Jones III, Mayor, City of Temple, Two North Main Street, Temple, TX 76501 | July 14, 2009 | 480034
Bexar | Unincorporated areas of Bexar County (08-06-1717P) | March 9, 2009, March 16, 2009, San Antonio Express News | The Honorable Nelson W. Wolff, Bexar County Judge, 100 Dolorosa Street, Suite 120, San Antonio, TX 78205 | July 14, 2009 | 480035
Bexar | City of San Antonio (08-06-1717P) | March 9, 2009, March 16, 2009, San Antonio Express News | The Honorable Phil Hardberger, Mayor, City of San Antonio, P.O. Box 839966, San Antonio, TX 78283 | July 14, 2009 | 480045
Bexar | City of San Antonio (08-06-3192P) | March 9, 2009, March 16, 2009, San Antonio Express News | The Honorable Phil Hardberger, Mayor, City of San Antonio, P.O. Box 839966, San Antonio, TX 78283 | July 14, 2009 | 480045
Bexar | City of San Antonio (09-06-0610P) | April 3, 2009, April 10, 2009, San Antonio Express News | The Honorable Phil Hardberger, Mayor, City of San Antonio, P.O. Box 839966, San Antonio, TX 78283 | March 24, 2009 | 480045
Collin | City of Wylie (07-06-2304P) | June 18, 2008, June 25, 2008, Wylie News | The Honorable John Mondy, Mayor, City of Wylie, 2000 State Highway 78 North, Wylie, TX 75098 | October 23, 2008 | 480759
Dallas | City of Dallas (09-06-0918P) | April 8, 2009, April 15, 2009, Dallas Morning News | The Honorable Tom Leppert, Mayor, City of Dallas, 1500 Marilla Street, Room 5EN, Dallas, TX 75201 | August 13, 2009 | 480171
Dallas | City of Farmers Branch (08-06-0532P) | April 10, 2009, April 17, 2009, Dallas Morning News | The Honorable Tim O'Hare, Mayor, City of Farmers Branch, P.O. Box 819010, Farmers Branch, TX 75381 | August 17, 2009 | 480174
Dallas | City of Garland (09-06-0830P) | April 10, 2009, April 17, 2009, Dallas Morning News | The Honorable Ronald E. Jones, Mayor, City of Garland, P. O. Box 469002, Garland, TX 75046-9002 | August 17, 2009 | 485471
Dallas | City of Sachse (07-06-2304P) | June 18, 2008, June 25, 2008, Daily Commercial Recorder | The Honorable Mike Felix, Mayor, City of Sachse, 5560 State Highway 78, Sachse, TX 75048 | October 23, 2008 | 480186
Fort Bend | Unincorporated areas of Fort Bend County (08-06-2236P) | April 16, 2009, April 23, 2009, Fort Bend Sun | The Honorable Robert E. Hebert, Ph.D., Fort Bend County Judge, 301 Jackson Street, Richmond, TX 77469 | August 21, 2009 | 480228
Fort Bend | City of Sugar Land (08-06-2236P) | April 16, 2009, April 23, 2009, Fort Bend Sun | The Honorable James A. Thompson, Mayor, City of Sugar Land, P.O. Box 110, Sugar Land, TX 77487 | August 21, 2009 | 480234
Hays | Unincorporated areas of Hays County (08-06-2257P) | March 25, 2009, April 1, 2009, San Marcos Daily Record | The Honorable Elizabeth Sumter, Judge, Hays County, 111 East San Antonio Street, Suite 300, San Marcos, TX 78666 | July 30, 2009 | 480321
Hays | City of San Marcos (08-06-2257P) | March 25, 2009, April 1, 2009, San Marcos Daily Record | The Honorable Susan Narvaiz, Mayor, City of San Marcos, 630 East Hopkins Street, San Marcos, TX 78666 | July 30, 2009 | 485505
Kendall | City of Boerne (08-06-3123P) | March 13, 2009, March 20, 2009, The Boerne Star | The Honorable Dan Heckler, Mayor, City of Boerne, P.O. Box 1677, Boerne, TX 78006 | July 20, 2009 | 480418
Tarrant | City of Fort Worth (09-06-0411P) | March 3, 2009, March 10, 2009, Fort Worth Star Telegram | The Honorable Michael J. Moncrief, Mayor, City of Fort Worth, 1000 Throckmorton Street, Fort Worth, TX 76102 | February 23, 2009 | 480596
Tarrant | City of Southlake (09-06-0528P) | March 3, 2009, March 10, 2009, Fort Worth Star Telegram | The Honorable Andy Wambsganss, Mayor, City of Southlake, 1400 Main Street, Suite 270, Southlake, TX 76092 | February 20, 2009 | 480612
Williamson | City of Round Rock (09-06-1098P) | April 2, 2009, April 9, 2009, Round Rock Leader | The Honorable Alan McGraw, Mayor, City of Round Rock, 221 East Main Street, Round Rock, TX 78664 | August 7, 2009 | 481048
Williamson | Unincorporated areas of Williamson County (09-06-1098P) | April 2, 2009, April 9, 2009, Round Rock Leader | The Honorable Dan A. Gattis, Williamson County Judge, 710 Main Street, Suite 101, Georgetown, TX 78626 | August 7, 2009 | 481079
Virginia:
Albemarle | Unincorporated areas of Albemarle County (08-03-1578P) | April 8, 2009, April 15, 2009, The Daily Progress | The Honorable David Slutzky, Chairman, Albemarle County Board of Supervisors, 401 McIntire Road, Charlottesville, VA 22902 | August 13, 2009 | 510006
Fauquier | Unincorporated areas of Fauquier County (09-03-0367P) | April 9, 2009, April 16, 2009, Fauquier Times Democrat | The Honorable R. Holder Trumbo, Jr., Chairman, Fauquier County, 10 Hotel Street, Suite 208, Warrenton, VA 20186 | August 14, 2009 | 510055
Washington: Pierce | Town of Steilacoom (08-10-0544P) | April 13, 2009, April 20, 2009, The News Tribune | The Honorable Ron Lucas, Mayor, Town of Steilacoom, 1030 Roe Street, Steilacoom, WA 98388 | March 31, 2009 | 530146

(Catalog of Federal Domestic Assistance No. 97.022, “Flood Insurance.”)

Dated: May 21, 2009.
Deborah S. Ingram,
Acting Deputy Assistant Administrator for Mitigation, Mitigation Directorate, Department of Homeland Security, Federal Emergency Management Agency.

[FR Doc. E9-12845 Filed 6-2-09; 8:45 am]

BILLING CODE 9110-12-P